DEPARTMENT OF ENERGY

Federal Energy Regulatory Commission

Combined Notice of Filings

Take notice that the Commission has received the following Natural Gas Pipeline Rate and Refund Report filings and Accounting Request filings:

Filings Instituting Proceedings

Docket Numbers: AC25-126-000.

Applicants: Howard Midstream Energy Partners, LLC.

Description: Howard Midstream Energy Partners, LLC, et al. submit Request for approval of proposed journal entries to use FERC Account No. 705, Prior Period Adjustment, etc.

Filed Date: 8/22/25.

Accession Number: 20250822-5215.

Comment Date: 5 p.m. ET 9/12/25.

Docket Numbers: RP25-1081-000.

Applicants: MRP Elgin LLC, Dairyland Power Cooperative.

Description: Joint Petition for Limited Waiver of Capacity Release Regulations, et al. of MRP Elgin LLC, et al.

Filed Date: 8/22/25.

Accession Number: 20250822-5155.

Comment Date: 5 p.m. ET 9/3/25.

Docket Numbers: RP25-1082-000.

Applicants: Equitrans, L.P.

Description: § 4(d) Rate Filing: Remove Reference to Extension of Time for NAESB 4.0 to be effective 9/25/2025.

Filed Date: 8/25/25.

Accession Number: 20250825-5031.

Comment Date: 5 p.m. ET 9/8/25.

Docket Numbers: RP25-1083-000.

Applicants: Mountain Valley Pipeline, LLC.

Description: § 4(d) Rate Filing: Remove Reference to Extension of Time for NAESB 4.0 to be effective 9/25/2025.

Filed Date: 8/25/25.

Accession Number: 20250825-5034.

Comment Date: 5 p.m. ET 9/8/25.

Docket Numbers: RP25-1084-000.

Applicants: Rager Mountain Storage Company LLC.

Description: § 4(d) Rate Filing: Remove Reference to Extension of Time for NAESB 4.0 to be effective 9/25/2025.

Filed Date: 8/25/25.

Accession Number: 20250825-5045.

Comment Date: 5 p.m. ET 9/8/25.

Docket Numbers: RP25-1085-000.

Applicants: Rover Pipeline LLC.

Description: § 4(d) Rate Filing: Housekeeping Filing on 8-25-25 to be effective 9/25/2025.

Filed Date: 8/25/25.

Accession Number: 20250825-5062.

Comment Date: 5 p.m. ET 9/8/25.

Docket Numbers: RP25-1086-000.

Applicants: Rover Pipeline LLC.

Description: § 4(d) Rate Filing: Vol 1-A Housekeeping Filing on 8-25-25 to be effective 9/25/2025.

Filed Date: 8/25/25.

Accession Number: 20250825-5063.

Comment Date: 5 p.m. ET 9/8/25.

Docket Numbers: RP25-1087-000.

Applicants: ETC Tiger Pipeline, LLC.

Description: § 4(d) Rate Filing: Housekeeping Filing on 8-25-25 to be effective 9/25/2025.

Filed Date: 8/25/25.

Accession Number: 20250825-5064.

Comment Date: 5 p.m. ET 9/8/25.

Docket Numbers: RP25-1088-000.

Applicants: Garden Banks Gas Pipeline, LLC.

Description: § 4(d) Rate Filing: GB—Modification to Non-Conforming Agreement—Remove ENI to be effective 9/22/2025.

Filed Date: 8/25/25.

Accession Number: 20250825-5095.

Comment Date: 5 p.m. ET 9/8/25.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 25, 2025.
Carlos D. Clay,
Deputy Secretary.

[FR Doc. 2025-16491 Filed 8-27-25; 8:45 am]

BILLING CODE 6717-01-P